DEPARTMENT OF ENERGY

Federal Energy Regulatory Commission

[Docket No. RP08-426-000]

El Paso Natural Gas Company; Notice of Informal Settlement Conference

February 12, 2009.

Take notice that an informal settlement conference will be convened in this proceeding commencing at 12 p.m. on Wednesday, February 18, 2009, at the offices of the Federal Energy Regulatory Commission, 888 First Street, NE., Washington, DC 20426, for the purpose of exploring the possible settlement of the above-referenced docket.

Any party, as defined by 18 CFR 385.102(c), or any participant as defined by 18 CFR 385.102(b), is invited to attend. Persons wishing to become a party must move to intervene and receive intervenor status pursuant to the Commission's regulations (18 CFR 385.214).

FERC conferences are accessible under section 508 of the Rehabilitation Act of 1973. For accessibility accommodations please send an e-mail to accessibility@ferc.gov or call toll free 1-866-208-3372 (voice) or (202) 208-8659 (TTY), or send a FAX to (202) 208-2106 with the required accommodations.

For additional information, please contact Hollis Alpert (202) 502-8783 hollis.alpert@ferc.gov or Moira Notargiacomo (202) 502-8083 moira.notargiacomo@ferc.gov.

Kimberly D. Bose,
Secretary.

[FR Doc. E9-3690 Filed 2-20-09; 8:45 am]

BILLING CODE 6717-01-P